DEPARTMENT OF TRANSPORTATION

Federal Aviation Administration

Notice of Cancellation of Environmental Impact Statement for the Norfolk International Airport, Norfolk, Virginia

AGENCY: Federal Aviation Administration (FAA), DOT.

ACTION: Notice of cancellation of preparation of environmental impact statement.

SUMMARY: The Federal Aviation Administration (FAA) announces that it has discontinued preparation of an Environmental Impact Statement (EIS) for the proposed construction of new Runway 5R/23L and associated development at Norfolk International Airport, Norfolk, Virginia. The FAA's discontinued preparation of the EIS is based upon the completion of the first phase of the EIS. Based on the results of the first phase (Scoping and Purpose & Need development), the FAA has determined that the fundamental purpose and need is not supported by the current or anticipated development needs of the Airport at this time.

FOR FURTHER INFORMATION CONTACT: Marcus Brundage, Environmental Protection Specialist, Federal Aviation Administration, Washington Airports District Office, 23723 Air Freight Lane, Suite 210, Dulles, Virginia 20166; Telephone (703) 661-1365.

SUPPLEMENTARY INFORMATION: On June 12, 2015, the FAA, published in the Federal Register a Notice of Intent (NOI) to prepare an Environmental Impact Statement (EIS) and hold two public scoping meetings in Norfolk and Virginia Beach, Virginia (Volume 80, Number 113, FR 33582-33583). The public meetings were held at the Bayside High School and at the Holiday Inn Norfolk Airport on July 22 and 23, 2015, respectively.

The stated purpose of the project was to “meet relevant FAA airfield safety standards and enhance airfield safety without reducing runway availability.” The proposed project included the decommissioning and demolition of Runway 14/32, the construction of new Runway 5R/23L and associated development at the airport, and improvement of roadway access to the airport by realigning Robin Hood Road. Other associated infrastructure was proposed for construction or demolition or relocation including taxiways, lighting, hangers, maintenance facilities, runway safety areas and runway protection zones.

In 2001, the FAA began preparing an EIS for similar projects based on the need to accommodate additional operations at the airport. During the first EIS process, the needs of the airport changed and it was determined that the projects were no longer justified based on the stated need and the preparation of the first EIS was cancelled. In 2013, the FAA agreed to proceed with a phased second EIS preparation to review a similar project proposed by the Norfolk Airport Authority. The first phase of the project consisted of consultant selection, EIS scoping, and an analysis of the proposed project's purpose and need to determine if the FAA should continue to the second phase, which would be completion of the EIS and determination.

At the conclusion of the first phase of the second EIS, the FAA determined that the fundamental purpose and need of the projects were not supported by the current or anticipated needs of the airport. The FAA is now terminating the second EIS process. However, the FAA recognizes the importance of ORF to the greater Norfolk/Hampton Roads region and to the Commonwealth of Virginia. Moreover, the FAA agrees that a parallel runway may still be a viable long-term plan for the future, if and when operational demand warrants. Therefore, the FAA continues to support the proposed runway remaining on the approved Airport Layout Plan, as conditionally approved pending environmental review on October 5, 2011, and protecting the associated airspace.

Issued in Dulles, Virginia on October 28, 2016.
Matthew J. Thys,
Manager, Washington Airports District Office, Eastern Region.

[FR Doc. 2016-26631 Filed 11-3-16; 8:45 am]

BILLING CODE 4910-13-P